DEPARTMENT OF ENERGY

Federal Energy Regulatory Commission

[Project No. 2188-172]

PPL Montana, LLC; Notice of Application for Amendment of License and Soliciting Comments, Motions To Intervene, and Protests

June 9, 2009.

a. Type of Application: Non-project use of project lands and waters.

b. Project Number: 2188-172.

c. Date Filed: February 4, 2009, and supplemented on May 4, 2009.

d. Applicant: PPL Montana, LLC.

e. Name of Project: Missouri-Madison Hydroelectric Project.

f. Location: The project is located along the Missouri and Madison Rivers in Gallatin, Madison, Lewis and Clark, and Cascade Counties, Montana. The proposed action would be located at the Gates of the Mountains Lakeshore Homes Subdivision in American Bar area of the project's Holter Development in Lewis and Clark County. The project occupies Federal lands administered by the Bureau of Land Management and the U.S. Forest Service.

g. Filed Pursuant to: Federal Power Act, 16 U.S.C. 791 (a) 825(r) and 799 and 801.

h. Applicant Contact: Mr. Jon Jourdonnais, PPL Montana, LLC, 45 Basin Creek Road, Butte, MT 59701. Telephone: (406) 533-3443. E-mail: jhjourdonnais@pplweb.com.

i. FERC Contact: Any questions on this notice should be addressed to Christopher Yeakel at (202) 502-8132, or e-mail address: christopher.yeakel@ferc.gov.

j. Deadline for filing comments and or motions: July 9, 2009.

k. Description of Request: PPL Montana, LLC proposes to permit the American Bar Landowner's Association to construct 23 seasonal boat docks, a boat launch, access roads, and parking areas in the American Bar area of the project's Holter Development. The facilities would serve an adjoining residential subdivision. The proposed boat docks would be removable floating docks that would not extend farther than 30 feet from the shoreline unless necessary to reach water ten feet in depth. The docks would be arranged into four clusters along the shoreline; they would be 100 feet or less from each other and each cluster would occupy no more than 750 feet of shoreline. The proposed boat ramp would be comprised of concrete and would be 12 feet wide and 26 feet long, and would include a courtesy dock 35 feet long and 4 feet wide. One access road would lead to a gravel parking lot at each location. The licensee consulted with the U.S. Bureau of Land Management (BLM), U.S. Forest Service (Forest Service), Montana Department of Fish, Wildlife and Parks (FWP) in developing the application.

l. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field (p-2188) to access the document. You may also register online at http://www.ferc.gov/docs-filing/esubscription.asp to be notified via e-mail of new filings and issuances related to this or other pending projects. For assistance, call 1-866-208-3372 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS”, “RECOMMENDATIONS FOR TERMS AND CONDITIONS”, “PROTEST”, OR “MOTION TO INTERVENE”, as applicable, and the Project Number of the particular application to which the filing refers (p-2188-172). All documents (original and eight copies) should be filed with: Kimberly D. Bose, Secretary, Federal Energy Regulatory Commission, 888 First Street, NE., Washington DC 20426. A copy of any motion to intervene must also be served upon each representative of the Applicant specified in the particular application.

p. Agency Comments: Federal, State, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Kimberly D. Bose,
Secretary.

[FR Doc. E9-14029 Filed 6-12-09; 8:45 am]

BILLING CODE 6717-01-P